DEPARTMENT OF VETERANS AFFAIRS

Advisory Committee on Chiropractic Care Implementation; Notice of Establishment

As required by Section 9(a)(2) of the Federal Advisory Committee Act, the Department of Veterans Affairs (VA) hereby gives notice of the establishment of the Advisory Commiteee on Chiropractic Care Implementation. The Secretary of Veterans Affairs has determined that establishing the Committee is both necessary and in the public interest.

The Committee will monitor and oversee actvities to establish a chiropractic health program within VA, and it will advise the Secretary on the implementation and evaluation of that program. Much of the Committee's work will focus on carrying out the VA-endorsed recommendations of the Chiropractic Advisory Committee, an advisory committee whose statutory authority will expire on December 31, 2004. The Chiropractic Advisory Committee has been operational since 2002, has held its final meeting and has submitted its final report to the Secretary.

The Advisory Committee on Chiropractic Care Implementation will review critical issues that affect program implementation, recommend program enhancements and provide guidance on long range planning. The Committee will include members of the chiropractic care profession and such other members as the Secretary considers appropriate.

The Advisory Committee on Chiropractic Care Implementation will meet periodically through 2005 and will be terminated no later than December 31, 2005.

Dated: December 6, 2004.
By Direction of the Secretary.
E. Philip Riggin,
Committee Management Officer.

[FR Doc. 04-27285 Filed 12-10-04]

BILLING CODE 8320-01-M